DEPARTMENT OF STATE

[Public Notice 7907]

The “100,000 Strong” Initiative Federal Advisory Committee: Notice of Meeting

SUMMARY: The Bureau of East Asian and Pacific Affairs of the Department of State hereby gives notice of a public meeting of the “100,000 Strong” Initiative Federal Advisory Committee. The “100,000 Strong” Federal Advisory Committee, composed of prominent China experts and leaders in business, academic, and non-profit organizations, serves a critical advisory role in achieving the Obama Administration's goal, announced in May 2010, of seeing 100,000 Americans study in China by 2014.

DATES: The meeting will take place on Tuesday, June 26, 2012, from 3:00 p.m. to 5:00 p.m. EDT at the Department of State, Washington, DC. Participants should arrive by 2:30 p.m. at 2201 C Street NW., C Street Lobby, and will be directed to the meeting room.

Public Participation: This Advisory Committee meeting is open to the public, subject to the capacity of the meeting room. Access to the building is controlled; persons wishing to attend should contact Kim McClure of the Department of State's Bureau of East Asian and Pacific Affairs at mcclurekm@state.gov and provide their name, affiliation, date of birth, country of citizenship, government identification type and number, email address, and mailing address no later than June 15, 2012. Data from the public is requested pursuant to Public Law 99-399 (Omnibus Act of 1986) as amended; Public Law 107-56 (USA PATRIOT ACT); and Executive Order 13356. The primary purpose for collecting this information is to validate the identity of individuals who enter Department facilities. Please see the Privacy Impact Assessment for VACS-D at http://www.state.gov/documents/organization/100305.pdf for additional information. Persons who cannot participate in the meeting but who wish to comment are welcome to do so by email to Kim McClure at mcclurekm@state.gov. A member of the public needing reasonable accommodation should advise the contact person identified above not later than June 15, 2012. Requests made after that date will be considered, but might not be able to be fulfilled. Members of the public who are unable to attend the Advisory Committee meeting in person but would like to participate by teleconferencing can contact Kim McClure at 202-647-7059 to receive the conference call-in number and the relevant information.

FOR FURTHER INFORMATION CONTACT: Kim McClure, Coordinator—100,000 Strong Initiative, 202-647-7059.

Dated: May 25, 2012.
Kim McClure,
Coordinator—100,000 Thousand Strong Initiative, Department of State.

[FR Doc. 2012-13335 Filed 5-31-12; 8:45 am]

BILLING CODE P